DEPARTMENT OF ENERGY

Federal Energy Regulatory Commission

[Project No. 2503-182]

Duke Energy Carolinas, LLC; Notice of Application Accepted for Filing and Soliciting Comments, Motions To Intervene, and Protests

Take notice that the following hydroelectric application has been filed with the Commission and is available for public inspection:

a. Application Type: Non-Project Use of Project Lands and Waters.

b. Project No: 2503-182.

c. Date Filed: February 16, 2021.

d. Applicant: Duke Energy Carolinas, LLC.

e. Name of Project: Keowee-Toxaway Hydroelectric Project.

f. Location: Lake Keowee in Pickens County, South Carolina.

g. Filed Pursuant to: Federal Power Act, 16 U.S.C. 791a-825r.

h. Applicant Contact: Kelvin Reagan, Duke Energy Lake Services, 526 S Church Street/EC12Q, Charlotte, NC 28202, (704) 382-9386, kelvin.reagan@duke-energy.com.

i. FERC Contact: Mark Carter, (678) 245-3083, mark.carter@ferc.gov.

j. Deadline for filing comments, motions to intervene, and protests: April 8, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2503-182. Comments emailed to Commission staff are not considered part of the Commission record.

k. Description of Request: Duke Energy Carolinas, LLC proposes to issue a lease to Mountain Lakes Marina, LLC for the construction and operation of a non-project, true public marina within the project boundary. The marina would be known as Sunset Marina but would occupy project waters where Gap Hill Marina was previously located. Sunset Marina would occupy 6.08 acres of project lands and waters and would include 13 boat docks to accommodate 171 watercraft, a concrete access ramp to support a dry-stack facility to be located outside the project boundary, continued use of an existing concrete boat ramp, a fueling facility, and a pump-out facility.

l. Locations of the Application: A copy of the application is available for inspection and reproduction at the Commission's Public Reference Room, located at 888 First Street NE, Room 2A, Washington, DC 20426, or by calling (202) 502-8371. This filing may also be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: March 9, 2021.
Kimberly D. Bose,
Secretary.

[FR Doc. 2021-05282 Filed 3-12-21; 8:45 am]

BILLING CODE 6717-01-P